DEPARTMENT OF HOMELAND SECURITY

Transportation Security Administration

Revision of Agency Information Collection Activity Under OMB Review: TSA infoBoards

AGENCY: Transportation Security Administration, DHS.

ACTION: 30-Day notice.

SUMMARY: This notice announces that the Transportation Security Administration (TSA) has forwarded the Information Collection Request (ICR), Office of Management and Budget (OMB) control number 1652-0065, abstracted below to OMB for review and approval of a revision of the currently approved collection under the Paperwork Reduction Act (PRA). The ICR describes the nature of the information collection and its expected burden. TSA infoBoards (formerly WebBoards) is an information-sharing environment designed to serve stakeholders in the transportation security community and is used to disseminate mission-critical information. It provides stakeholders with an online portal, which allows authorized users to obtain, post, and exchange information, access common resources, and communicate with similarly situated individuals. Utilizing and inputting information into TSA infoBoards is completely voluntary.

DATES: Send your comments by December 4, 2019. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Information Technology (IT), TSA-11, Transportation Security Administration, 601 South 12th Street, Arlington, VA 20598-6011; telephone (571) 227-2062; email TSAPRA@tsa.dhs.gov.

SUPPLEMENTARY INFORMATION: TSA published a Federal Register notice, with a 60-day comment period soliciting comments, of the following collection of information on June 20, 2019, 84 FR 28835.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: TSA infoBoards.

Type of Request: Revision of a collection.

OMB Control Number: 1652-0065.

Form(s): TSA Forms 1427 and 1430.

Affected Public: Individuals with transportation security responsibilities, such as aircraft operators, airport security coordinators, and international transportation security coordinators.

Abstract: TSA infoBoards was developed by TSA as part of its broad responsibilities and authorities under the Aviation and Transportation Security Act (ATSA), and delegated authority from the Secretary of Homeland Security, for “security in all modes of transportation . . . including security responsibilities . . . over modes of transportation that are exercised by the Department of Transportation.” ¹ TSA infoBoards is an information-sharing environment designed to serve stakeholders in the transportation security community and is used to disseminate mission-critical information. It is located in a secure online environment and is accessible from the Homeland Security Information Network (HSIN) and TSA (for TSA staff only). Accessing and using TSA infoBoards is completely voluntary; TSA does not require participation.

¹ See Public Law 107-71 (115 Stat. 597, Nov. 19, 2001), codified at 49 U.S.C. 114 (d). The TSA Assistant Secretary's current authorities under ATSA have been delegated to him by the Secretary of Homeland Security. Section 403(2) of the Homeland Security Act (HSA) of 2002, Public Law 107-296 (116 Stat. 2315, Nov. 25, 2002), transferred all functions of TSA, including those of the Secretary of Transportation and the Under Secretary of Transportation of Security related to TSA, to the Secretary of Homeland Security. Pursuant to DHS Delegation Number 7060.2, the Secretary delegated to the Assistant Secretary (then referred to as the Administrator of TSA), subject to the Secretary's guidance and control, the authority vested in the Secretary with respect to TSA, including that in section 403(2) of the HSA.

TSA collects two types of information through TSA infoBoards: (1) User registration information and (2) user's choice of “communities.” TSA is revising the collection instrument, TSA Form 1427, TSA infoBoards User Account Request/Renewal, to include an additional instrument, TSA Form 1430, Computer Access Agreement (CAA) External Personnel Only, to correct typographical errors and to update the list of TSA infoBoards names.

Number of Respondents: 5,000 users.

Estimated Annual Burden Hours: An estimated 10,000 hours annually.

Dated: October 29, 2019.
Christina A. Walsh,
TSA Paperwork Reduction Act Officer, Information Technology.

[FR Doc. 2019-23969 Filed 11-1-19; 8:45 am]

BILLING CODE 9110-05-P